DEPARTMENT OF THE INTERIOR

National Park Service

Native American Graves Protection and Repatriation Review Committee: Meetings

AGENCY: National Park Service, Interior.

ACTION: Notice.

Notice is hereby given in accordance with the Federal Advisory Committee Act, 5 U.S.C. Appendix (1988), of three meetings of the Native American Graves Protection and Repatriation Review Committee (Review Committee). The Review Committee will meet on May 14, 2010; June 11, 2010; and November 17-19, 2010.

The May 14 and June 11 meetings will be conducted via teleconference. They are scheduled from 1 p.m. until 5 p.m. Eastern Daylight Time, but may conclude earlier if all business is completed.

Persons not making presentations, but who wish to listen to the May 14 or June 11 teleconference, may obtain a call-in number and access code by sending an e-mail message to nagpra@rap.midco.net. In the subject line, write either “May 14 teleconference” or “June 11 teleconference.” Send a separate e-mail message for each teleconference to which you wish to listen. In the body of your message, include the name, affiliation (tribe, institution, agency, or other organization), mailing address, telephone number, and e-mail address for each person who will be listening on the same line. The deadlines for registering to listen to a teleconference are April 19, 2010 (for the May 14 meeting); and May 17, 2010 (for the June 11 meeting).

The agenda for the May 14 meeting will include the selection of the Chair; introduction of the subcommittee drafting the Review Committee's Report to Congress for 2009; presentation and discussion of the intended scope of the Report to Congress; presentations to the Review Committee by Indian tribes, Native Hawaiian organizations, museums, and Federal agencies on both the positive experiences and the barriers encountered with NAGPRA compliance; other presentations by Indian tribes, Native Hawaiian organizations, museums, Federal agencies, and the public; and National NAGPRA Program reports. The final agenda for this meeting will be posted on or before April 23, 2010, at http://www.nps.gov/history/nagpra.

The agenda for the June 11 meeting will include the presentation by the subcommittee of the draft Review Committee Report to Congress for 2009; discussion of the draft Report to Congress and approval, or conditional approval, of the draft Report; appointment of the subcommittee to draft the Review Committee's Report to Congress for 2010, and discussion of the intended scope of the Report; requests to the Review Committee for a recommendation on the disposition, per agreement, of Native American human remains determined to be culturally unidentifiable; and presentations by Indian tribes, Native Hawaiian organizations, museums, Federal agencies, and the public. The final agenda for this meeting will be posted on or before May 21, 2010, at http://www.nps.gov/history/nagpra.

The November 17-19 meeting will take place in Washington, DC, at the Yates Auditorium of the Department of the Interior, 1849 C Street, NW. Meeting sessions will begin at 8:30 a.m., and will end at 5 p.m. each day. The agenda for this meeting will include the presentation by the subcommittee of the draft Review Committee Report to Congress for 2010; discussion of the draft Report to Congress and approval, or conditional approval, of the draft Report; appointment of the subcommittee to draft the Review Committee's Report to Congress for 2011, and discussion of the intended scope of the Report; National NAGPRA reports; the selection of dates and sites for the fall 2011 and spring 2012 meetings; requests to the Review Committee for a recommendation on the disposition, per agreement, of Native American human remains determined to be culturally unidentifiable; presentations by Indian tribes, Native Hawaiian organizations, museums, Federal agencies, and the public; requests to the Review Committee, pursuant to 25 U.S.C. 3006 (c)(3), for review and findings of fact related to the identity or cultural affiliation of human remains or other cultural items, or the return of such items; and the hearing of disputes among parties convened by the Review Committee, pursuant to 25 U.S.C. 3006 (c)(4). The final agenda for this meeting will be posted on or before October 22, 2010, at http://www.nps.gov/history/nagpra.

For the May 14 meeting, the Review Committee is soliciting presentations by Indian tribes, Native Hawaiian organizations, museums, and Federal agencies on both the positive experiences and the barriers encountered with NAGPRA compliance. The deadline for submitting presentations on this topic is April 9, 2010. Electronic submissions are preferred, and are to be sent to: David_Tarler@nps.gov. Mailed submissions are to be sent to: Designated Federal Officer, NAGPRA Review Committee, National Park Service, National NAGPRA Program, 1201 Eye Street, NW., 8th Floor (2253), Washington, DC 20005.

For the May 14, June 11, and November 17-19 meetings, the Review Committee will consider requests for other presentations by Indian tribes, Native Hawaiian organizations, museums, Federal agencies, and the public. Each request must include an abstract of the presentation and contact information for the presenter(s). The deadlines for presentation requests are March 19, 2010 (for the May 14 meeting); April 16, 2010 (for the June 11 meeting); and September 17, 2010 (for the November 17-19 meeting). Electronic submissions are preferred, and are to be sent to: David_Tarler@nps.gov. Mailed submissions are to be sent to: Designated Federal Officer, NAGPRA Review Committee, National Park Service, National NAGPRA Program, 1201 Eye Street, NW., 8th Floor (2253), Washington, DC 20005.

For the June 11 and November 17-19 meetings, the Review Committee will consider requests for a recommendation on the disposition, per agreement, of Native American human remains determined to be culturally unidentifiable (CUI). Each request must include the completed form posted on the National NAGPRA Program Web site and, as applicable, the ancillary materials noted on the form. To access and download the form, go to http://www.nps.gov/history/nagpra, and then click on “Request for CUI Disposition form.” The deadlines for CUI disposition agreement requests are March 19, 2010 (for the June 11 meeting); and August 20, 2010 (for the November 17-19 meeting). Electronic submissions are preferred, and are to be sent to: David_Tarler@nps.gov. Mailed submissions are to be sent to: Designated Federal Officer, NAGPRA Review Committee, National Park Service, National NAGPRA Program, 1201 Eye Street, NW., 8th Floor (2253), Washington, DC 20005.

For the November 17-19 meeting, the Review Committee will consider requests, pursuant to 25 U.S.C. 3006 (c)(3), for review and findings of fact related to the identity or cultural affiliation of human remains or other cultural items, or the return of such items. The Review Committee also will consider requests, pursuant to 25 U.S.C. 3006 (c)(4), to convene parties and hear disputes.

Each request pursuant to 25 U.S.C. 3006 (c)(3) must include—

a. The proposed questions for the Review Committee to consider.

b. A statement of facts relevant for answering the questions posed.

c. Copies of documents that are relevant for answering the questions posed.

d. A statement of the requesting party's position and reasoning for their position.

e. A list of all interested parties known to the requesting party.

f. A summary of the consultation record.

g. The findings of fact and recommendations sought from the Review Committee.

Each request pursuant to 25 U.S.C. 3006 (c)(4) must include items a. through g., above, and—

h. A summary of previous efforts to resolve the dispute, including, if applicable, the results of alternative dispute resolution.

i. A statement providing the requesting party's understanding of the other party's/parties' position and reasoning for their position.

The deadline for requests pursuant to 25 U.S.C. 3006 (c)(3) and (c)(4) is July 23, 2010. Electronic submissions are preferred, and are to be sent to: David_Tarler@nps.gov. Mailed submissions are to be sent to: Designated Federal Officer, NAGPRA Review Committee, National Park Service, National NAGPRA Program, 1201 Eye Street, NW., 8th Floor (2253), Washington, DC 20005.

Information about NAGPRA, the Review Committee, and Review Committee meetings is available on the National NAGPRA Program Web site, at http://www.nps.gov/history/nagpra. For the Review Committee's meeting procedures, click on “Review Committee,” then click on “Procedures.” Meeting minutes may be accessed by going to the Web site; then clicking on “Review Committee;” and then clicking on “Meeting Minutes.” Approximately fourteen weeks after each Review Committee meeting, the meeting transcript is posted for a limited time on the National NAGPRA Program Web site.

The Review Committee was established in Section 8 of the Native American Graves Protection and Repatriation Act of 1990 (NAGPRA), 25 U.S.C. 3006. Review Committee members are appointed by the Secretary of the Interior. The Review Committee is responsible for monitoring the NAGPRA inventory and identification process; reviewing and making findings related to the identity or cultural affiliation of cultural items, or the return of such items; facilitating the resolution of disputes; compiling an inventory of culturally unidentifiable human remains that are in the possession or control of each Federal agency and museum, and recommending specific actions for developing a process for disposition of such human remains; consulting with Indian tribes and Native Hawaiian organizations and museums on matters affecting such tribes or organizations lying within the scope of work of the Committee; consulting with the Secretary of the Interior on the development of regulations to carry out NAGPRA; and making recommendations regarding future care of repatriated cultural items. The Review Committee's work is carried out during the course of meetings that are open to the public.

Dated: January 14, 2010.
David Tarler,
Designated Federal Officer, Native American Graves Protection and Repatriation Review Committee.

[FR Doc. 2010-3763 Filed 3-1-10; 8:45 am]

BILLING CODE P